ENVIRONMENTAL PROTECTION AGENCY

40 CFR Part 70

[FRL-7059-3]

Clean Air Act Full Approval of Operating Permits Program in Alaska

AGENCY: Environmental Protection Agency (EPA).

ACTION: Direct final rule; withdrawal.

SUMMARY: On July 26, 2001, the EPA published a direct final rule (66 FR 38940) approving, and an accompanying proposed rule (66 FR 38966) proposing to approve, the operating permits program submitted by the State of Alaska. Alaska's operating permits program was submitted in response to the directive in the Clean Air Act that permitting authorities develop, and submit to EPA, programs for issuing operating permits to all major stationary sources and to certain other sources within the permitting authority's jurisdiction.

EPA is withdrawing this final rule due to the adverse public comments received on the proposed approval. In a subsequent final rule, EPA will summarize and respond to the comments received and take final rulemaking action on the operating permits program submitted by the State of Alaska.

DATES: The direct final rule published at 66 FR 38940 (July 26, 2001) is withdrawn September 20, 2001.

ADDRESSES: Copies of the documents relevant to this action are available for public inspection during normal business hours at the following location: U.S. Environmental Protection Agency, Region 10, 1200 Sixth Avenue, Seattle, Washington, 98101. Interested persons wanting to examine these documents should make an appointment with the appropriate office at least 24 hours before the visiting day.

FOR FURTHER INFORMATION CONTACT: Denise Baker, Office of Air Quality (OAQ-107), EPA, 1200 6th Avenue, Seattle, WA 98101, (206) 553-8087.

List of Subjects in 40 CFR Part 70

Environmental protection, Administrative practice and procedure, Air pollution control, Intergovernmental relations, Operating permits, Reporting and recordkeeping requirements.

Dated: September 13, 2001.
Charles E. Findley,
Acting Regional Administrator, Region 10.

Accordingly, under the authority of 42 U.S.C. 7401-7671q, the direct final rule published on July 26, 2001 (66 FR 38940) is withdrawn.

[FR Doc. 01-23474 Filed 9-19-01; 8:45 am]

BILLING CODE 6560-50-P